NATIONAL COUNCIL ON DISABILITY

Sunshine Act Meetings

TIME AND DATES: The Members of the National Council on Disability (NCD) will hold a special meeting of the Council on Friday, January 11, 2013, 12:00 p.m.-1:00 p.m. (ET).

PLACE: The meeting will occur by teleconference. Interested parties may join the meeting by phone in a listening-only capacity using the following call-in number: 1-877-446-3914; passcode 4121872.

MATTERS TO BE CONSIDERED: The Council will meet to review, discuss, and vote on a letter of policy recommendations and concerns to the interagency taskforce created in the wake of the Newtown tragedy.

CONTACT PERSON FOR MORE INFORMATION: Anne Sommers, NCD, 1331 F Street NW., Suite 850, Washington, DC 20004; 202-272-2004 (V), 202-272-2074 (TTY).

ACCOMMODATIONS: Those who plan to participate by phone and require accommodations should notify NCD as soon as possible to allow time to make arrangements.

Dated: January 11, 2013.
Aaron Bishop,
Executive Director.

[FR Doc. 2013-00805 Filed 1-11-13; 4:15 pm]

BILLING CODE 6820-MA-P